DEPARTMENT OF ENERGY

Federal Energy Regulatory Commission

[Docket No. ER22-2466-000; ER22-2466-001]

Cube Yadkin Transmission LLC; Notice of Motion To Withdraw Compliance Filing and Motion for Extension of Time To Comply

On May 30, 2025, Cube Yadkin Transmission LLC (Cube Yadkin), filed a motion to withdraw its November 12, 2024 filing to comply with Order Nos. 881 and 881-A ¹ and a motion for extension of time to comply with Order Nos. 881 and 881-A until July 12, 2027. Cube Yadkin states that the current effective date for compliance, July 12, 2025, does not provide Cube Yadkin with adequate time to develop and update processes, procedures and software to implement the requirements of Order No. 881 on Cube Yadkin's limited and discrete facilities. According to Cube Yadkin, the requested extension will provide Cube Yadkin with “time to develop and implement processes tailored for the Yadkin Transmission Facilities that comply with Order No. 881 and to train [Cube Yadkin's] personnel to ensure continued operational reliability of the Yadkin Transmission Facilities.” ²

¹ Managing Transmission Line Ratings, Order No. 881, 177 FERC ¶ 61,179 (2021), order addressing arguments raised on reh'g, Order No. 881-A, 179 FERC ¶ 61,125 (2022).

² Cube Yadkin May 30, 2025 Motion to Withdraw Compliance Filing and Motion for Extension to Comply at 4.

Answers to the motion must be filed by 5:00 p.m. Eastern Time on June 9, 2025.

Dated: June 4, 2025.
Debbie-Anne A. Reese,
Secretary.

[FR Doc. 2025-10493 Filed 6-9-25; 8:45 am]

BILLING CODE 6717-01-P